DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Association of American Railroads

[Docket Number FRA-2004-19402]

The Association of American Railroads (AAR) and the Railway Supply Institute (RSI), on behalf of their member companies, seeks a permanent waiver of compliance from the requirements of Title 49 Code of Federal Regulations (CFR) § 232.205(b)(5) Class I Brake Test—Initial terminal inspection regarding minimum piston travel. This waiver is necessary to allow a minimum piston travel of six (6) inches, rather than the current requirement of seven (7) inches for cars equipped with eight and one half (8.5) inch or ten (10) inch diameter brake cylinders. Technical data supporting this request was submitted to FRA for review. By granting this wavier, it would provide consistency with the braking systems practice used in Canada which permits a minimum piston travel of six (6) inches, per Section 22.1 of Train Brake Rules, Rule 22, Transport Canada.

By granting this waiver, no special markings or decals would be necessary, as all cars not covered by this waiver are required to have the permissible range of piston travel stencilled or marked on the car or badge plate. Therefore, six (6) to nine (9) inches would be the default range for piston travel absent a decal or marking to the contrary.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-19402) and must be submitted in triplicate to the Docket Clerk, DOT Central Docket Management Facility, Room Pl-401, Washington, DC 20590-0001. Communications received within 30 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on November 1, 2004.
Grady C. Cothen, Jr.,
Acting Associate Administrator for Safety.

[FR Doc. 04-24771 Filed 11-4-04; 8:45 am]

BILLING CODE 4910-06-P